DEPARTMENT OF THE INTERIOR

National Park Service

National Register of Historic Places; Notification of Pending Nominations and Related Actions

Nominations for the following properties being considered for listing or related actions in the National Register were received by the National Park Service before February 3, 2007. Pursuant to section 60.13 of 36 CFR Part 60 written comments concerning the significance of these properties under the National Register criteria for evaluation may be forwarded by the United States Postal Service, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by March 5, 2007.

J. Paul Loether,
Chief National Register of Historic Places/National Historic Landmarks Program.

ILLINOIS

Morgan County

Woodlawn Farm, 1463 Gierke Rd., Jacksonville, 07000146

Peoria County

YWCA Building, 301 NE Jefferson, Peoria, 07000147

KANSAS

Crawford County

Franklin Sidewalk, Parallel to Bus U.S. 69 bet. Franklin and Arma, Franklin, 07000143

Ellis County

Memorial City Hall, 911 Washington St., Ellis, 07000142

Nemaha County

Hand-Dug City Water Well, 301 N. 11th St., Seneca, 07000141

Russell County

Reiff Building, (Theaters and Opera Houses of Kansas MPS), 513 Main St., Dorrance, 07000140

Sedgwick County

McMullen House, 1003 N. Faulkner, Wichita, 07000138

Shawnee County Bowker House, 1200 SE Quincy, Topeka, 07000139

MASSACHUSETTS

Berkshire County

Pittsfield Cemetery, 203 Wahconah St., Pittsfield, 07000145

Suffolk County

Fort Banks Mortar Battery, Kennedy Dr., Winthrop, 07000144

MISSISSIPPI

Newton County

Newton County American Legion Post No. 89 Hut, MS 15 N, 0.4 mi. N of jct. Country Club Rd., Decatur, 07000148

Tallahatchie County

Tallahatchie County Second District Courthouse, 108 Main St., Sumner, 07000149

NEW HAMPSHIRE

Hillsborough County

Goffstown Main Street Historic District, Selected buildings on Church St., Depot St., High St., Main St., and N. Mast St., Goffstown, 07000153

Woodbury, Levi, Homestead, 1 Main St., Francetown, 07000152

Merrimack County

Dimond Hill Farm, 314 Hopkinton Rd., Concord, 07000155

Rolfe Barn, 16 Penacook St., Concord, 07000154

NEW JERSEY

Mercer County

Mount Rose General Store, 230 Hopewell-Princeton Rd. (Cty Rte 569), Hopewell Township, 07000150

Warren County

St. Luke's Episcopal Church, 346 High St., Hope, 07000151

TENNESSEE

Dickson County

Promise Land School, Promise Land Rd., N of Reddon Crossing/Will G Rd., Promise, 07000159

Madison County

Anderson Presbyterian Church, 899 Steam Mill Ferry Rd., Madison Hall, 07000157

Roane County

Post Oak Springs Christian Church, Roane St. Hwy (Old Kingston Hwy.) at Post Oak Rd., Post Oak, 07000156

Williamson County

Smithson—McCall Farm, (Historic Family Farms in Middle Tennessee MPS), 6779 Comstock Rd., Bethesda, 07000158

VERMONT

Bennington County

School Street Duplexes, 343-345 and 347-349 School St., Bennington, 07000162

Rutland County

West Haven Baptist Church, (Religious Buildings, Sites and Structures in Vermont MPS), 48 Book Rd., West Haven, 07000161

Washington County

Scampini Block, 289 N. Main St., Barre, 07000160

Requests for removal have been made for the following resources:

NEBRASKA

Custer County

Westcott, Gibbons & Bragg Store, Off NE 106, Comstock, 78001694

Lancaster County

(Nineteenth Century Terrace House TR), Baldwin Terrace, 429-443 S. 12th St., and 1134-1142 K St., Lincoln, 79003687

Metropolitan Apartments, 502 S. Twelfth St., Lincoln, 87002298

Townsend Photography Studio, 226 S. 11th St., Lincoln, 84000478

[FR Doc. E7-2713 Filed 2-15-07; 8:45 am]

BILLING CODE 4312-51-P